DEPARTMENT OF ENERGY

Federal Energy Regulatory Commission

[Project No. 2479-010]

Pacific Gas and Electric Company; Notice of Intent To File License Application, Filing of Pre-Application Document, Commencement of Licensing Proceeding, Scoping, Solicitation of Comments on the Pad and Scoping Document, and Identification of Issues and Associated Study Requests

March 25, 2008.

a. Type of Filing: Notice of Intent to File License Application for a New License and Commencing Licensing Proceeding.

b. Project No.: 2479-010.

c. Dated Filed: February 21, 2008.

d. Submitted by: Pacific Gas and Electric Company (PG&E).

e. Name of Project: French Meadows Transmission Line Project.

f. Location: The French Meadows Transmission Line Project (Project) is located in Placer County, California and is entirely within the boundaries of the El Dorado and Tahoe National Forests. The Project includes three sections: (1) The French Meadows Transmission Line, a 60-kilovolt (kV) transmission line extending from Placer County Water Agency's (PCWA) French Meadows power plant to PCWA's Middle Fork power plant; (2) the Oxbow Tap, a 60-kV tap to PCWA's Oxbow power plant, and (3) the Ralston Tap, a 230-kV tap entirely contained within the switchyard of PCWA's Ralston power plant. Each of PCWA's facilities are associated with their Middle Fork Hydroelectric Project, FERC No. 2079, and are not included as part of the Project. The combined length of the Project is 13.37 miles with a right-of-way 40 feet in width.

g. Filed Pursuant to: 18 CFR Part 5 of the Commission's Regulations.

h. Applicant Contact: Mr. Forrest Sullivan, Senior Project Manager, Pacific Gas and Electric Company, 5555 Florin Perkins Road, Room 100, Sacramento, CA 95826, 916-386-5580.

i.FERC Contact: Carolyn Templeton at 202-502-8785 or e-mail carolyn.templeton@ferc.gov.

j. We are asking Federal, State, local, and tribal agencies with jurisdiction and/or special expertise with respect to environmental issues to cooperate with us in the preparation of the environmental document. Agencies who would like to request cooperating status should follow the instructions for filing comments described in paragraph (o) below. Cooperating agencies should note the Commission's policy that agencies that cooperate in the preparation of the environmental document cannot also intervene. See, 94 FERC ¶ 61,076 (2001).

k. With this notice, we are initiating informal consultation with: (a) The U.S. Fish and Wildlife Service and/or NOAA Fisheries under section 7 of the Endangered Species Act and the joint agency regulations thereunder at 50 CFR, Part 402 and (b) the California State Historic Preservation Officer, as required by section 106, National Historical Preservation Act, and the implementing regulations of the Advisory Council on Historic Preservation at 36 CFR 800.2.

l. With this notice, we are designating PG&E as the Commission's non-federal representative for carrying out informal consultation, pursuant to section 7 of the Endangered Species Act and section 106 of the National Historic Preservation Act.

m. PG&E filed a Pre-Application Document (PAD); including a proposed process plan and schedule with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph (h).

Register online at http://ferc.gov/esubscribenow.htm to be notified via e-mail of new filing and issuances related to this or other pending projects. For assistance, contact FERC Online Support.

o. With this notice, we are soliciting comments on the PAD and Scoping Document 1 (SD1), as well as study requests. All comments on the PAD and SD1, and study requests should be sent to the address above in paragraph (h). In addition, all comments on the PAD and SD1, study requests, requests for cooperating agency status, and all communications to and from Commission staff related to the merits of the potential application (an original and eight copies) must be filed with the Commission at the following address: Kimberly D. Bose, Secretary, Federal Energy Regulatory Commission, 888 First Street, NE., Washington, DC 20426. All filings with the Commission must include on the first page, the project name (French Meadows Transmission Line Project) and number (P-2479-010), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by April 11, 2008.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “e-filing” link.

p. Our intent is to prepare an Environmental Impact Statement for which the below meetings satisfied the NEPA scoping requirements.

Scoping Meetings

Because of the interconnection between the French Meadows Transmission Line Project and PCWA's Middle Fork American Project, the scoping meetings for these projects were held concurrently on March 4, 2008, at the Auburn Recreation District-Canyon View Community Center. Commission staff held two scoping meetings; one daytime meeting focused on resource agency, Indian tribes, and non-governmental organization concerns, and one evening meeting focused primarily on receiving input from the public. We invited all interested individuals, organizations, and agencies to attend one or both of the meetings, and to assist staff in identifying particular study needs, as well as the scope of environmental issues to be addressed in the environmental document. The meetings were recorded by a stenographer and became part of the formal record of the Commission proceeding on the projects. Transcripts from these meetings may be viewed on the Web at http://www.ferc.gov, using the “eLibrary” link. Follow the directions for accessing information in paragraph (n).

SD1, which outlines the subject areas to be addressed in the environmental document, was mailed to the individuals and entities on the Commission's mailing list. Copies of SD1 were available at the scoping meetings, and may be viewed on the Web at http://www.ferc.gov, using the “eLibrary” link. Follow the directions for accessing information in paragraph (n). Based on all oral and written comments, a Scoping Document 2 (SD2) may be issued. SD2 may include a revised process plan and schedule, as well as a list of issues, identified through the scoping process.

Site Visit

Typically, a site visit is held together with the scoping meeting. However, because most of the project sites were not be accessible in early March, the licensees (PCWA and PG&E) and Commission staff will visit the project sites on Wednesday, June 25, 2008, starting at 8 a.m. All participants should meet at Auburn Recreation District Canyon View Community Center, located at 471 Maidu Drive, Auburn, California. PCWA and PG&E will provide transportation for participants. Anyone interested in attending the site visit should contact Mr. Forrest Sullivan of PG&E at 916-386-5580 by June 11, 2008. Depending on interest, a second day (Thursday, June 26, 2008) of site visits may be added to the schedule. Should this be the case, a notice will be issued in June stating as such.

Kimberly D. Bose,
Secretary.

[FR Doc. E8-6534 Filed 3-28-08; 8:45 am]

BILLING CODE 6717-01-P